DEPARTMENT OF LABOR

Mine Safety and Health Administration

30 CFR Parts 7 and 75

[Docket No. MSHA-2013-0033]

RIN 1219-AB79

Refuge Alternatives for Underground Coal Mines

AGENCY: Mine Safety and Health Administration, Labor.

ACTION: Request for Information; extension of comment period.

SUMMARY: In response to requests from interested parties, the Mine Safety and Health Administration (MSHA) is extending the comment period on the Request for Information on Refuge Alternatives for Underground Coal Mines. This extension gives stakeholders additional time to provide input on the current state of refuges in use and recent research and new technology that may lead to the development of a new generation of refuges.

DATES: Comments must be received or postmarked by midnight Eastern Standard Time on January 15, 2016.

ADDRESSES: Submit comments and informational materials, identified by RIN 1219-AB79 or Docket No. MSHA-2013-0033, by one of the following methods:

• Federal E-Rulemaking Portal: http://www.regulations.gov. Follow the on-line instructions for submitting comments.

• E-Mail: zzMSHA-comments@dol.gov. Include RIN 1219-AB79 or Docket No. MSHA-2014-0033 in the subject line of the message.

• Mail: MSHA, Office of Standards, Regulations, and Variances, 201 12th Street South, Suite 4E401, Arlington, Virginia 22202-5452.

• Fax: 202-693-9441.

• Hand Delivery or Courier: MSHA, 201 12th Street South, Suite 4E401, Arlington, Virginia, between 9:00 a.m. and 5:00 p.m. Monday through Friday, except Federal holidays. Sign in at the receptionist's desk on the 4th floor.

Instructions: All submissions must include RIN 1219-AB79 or Docket No. MSHA-2013-0033. Do not include personal information that you do not want publicly disclosed; MSHA will post all comments without change to http://www.regulations.gov and http://www.msha.gov/currentcomments.asp, including any personal information provided.

Docket: For access to the docket to read comments received, go to http://www.regulations.gov or http://www.msha.gov/currentcomments.asp. To read background documents, go to http://www.regulations.gov. Review the docket in person at MSHA, Office of Standards, Regulations, and Variances, 201 12th Street South, Suite 4E401, Arlington, Virginia 22202-5452, between 9:00 a.m. and 5:00 p.m. Monday through Friday, except Federal Holidays. Sign in at the receptionist's desk on the 4th floor.

E-Mail Notification: To subscribe to receive an email notification when MSHA publishes rules in the Federal Register, and program information, instructions, and policy, go to http://www.msha.gov/subscriptions/subscribe.aspx.

FOR FURTHER INFORMATION CONTACT: Sheila A. McConnell, Acting Director, Office of Standards, Regulations, and Variances, MSHA, at mcconnell.sheila.a@dol.gov (email); 202-693-9440 (voice); or 202-693-9441 (facsimile).

SUPPLEMENTARY INFORMATION: On October 19, 2015, MSHA held a public meeting to gather information on issues and options relevant to coal miners' escape and refuge. The meeting was announced in the Federal Register on September 18, 2015 (80 FR 56416). Coal mine operators, coal miners, equipment manufacturers, academia, and the public were invited to provide information on the current state of refuge alternatives in underground coal mines, particularly on the challenges related to the use of built-in-place refuges and enhancing voice communication when using escape breathing devices. In response to stakeholders, MSHA is providing additional time for interested parties to comment. MSHA is extending the comment period from November 16, 2015, to January 15, 2016.

Joseph A. Main,
Assistant Secretary of Labor for Mine Safety and Health.

[FR Doc. 2015-29433 Filed 11-16-15; 11:15 am]

BILLING CODE 4510-43-P